DEPARTMENT OF AGRICULTURE

Submission for OMB Review; Comment Request

November 28, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Utilities Service

Title: 7 CFR 1744-C, Advance and Disbursement of Funds—Telecommunications.

OMB Control Number: 0572-0023.

Summary of Collection: Section 201 of the Rural Electrification Act (RE Act) of 1936 authorizes the Administrator of the Rural Utilities Service (RUS) to make loans for the purpose of providing telephone service to the widest practicable number of rural subscribers. A borrower requesting loan advances must submit RUS Form 481, “Financial Requirement Statement”. Along with the Form 481 the borrower must also submit a description of the advances and upon request copies of backup documentation relating to the transactions. Within a reasonable amount of time, funds are advanced to the borrower for the purposes specified in the statement of purposes. The borrower must immediately deposit all advanced money into a Special Construction account until disbursed.

Need and Use of the Information: The information collected is used by RUS to record and control transactions and verify that the funds advanced in the construction fund are related directly to loan purposes. If the information were not collected, RUS would not have any control over how loan funds are spent or a record of the balance to be advanced.

Description of Respondents: Business or other for-profit.

Number of Respondents: 177.

Frequency of Responses: Reporting: On occasion.

Total Burden Hours: 1,223.

Charlene Parker,
Departmental Information Collection Clearance Officer.

[FR Doc. 2012-29159 Filed 12-3-12; 8:45 am]

BILLING CODE 3410-15-P